Title 3—

The President

Executive Order 14355 of September 30, 2025

Unlocking Cures for Pediatric Cancer With Artificial Intelligence

By the authority vested in me as President by the Constitution and the laws of the United States of America, it is hereby ordered:

Section 1. Purpose and Policy. My Administration is committed to driving innovation to prevent and treat childhood diseases, including through the use of artificial intelligence (AI). Pediatric cancer remains the leading cause of disease-related death for children in the United States aged 1-19 years, and its incidence has increased by more than 40 percent since 1975.

As outlined in my joint address to the Congress in March, reversing this trend is one of the top priorities for the Make America Healthy Again (MAHA) Commission established in Executive Order 14212 of February 13, 2025 (Establishing the President's Make America Healthy Again Commission). AI presents an opportunity to more quickly achieve this aim.

In 2019, my Administration created the Childhood Cancer Data Initiative (CCDI), a Federal investment in childhood cancer research of $50 million in funding every year for 10 years to address the critical need to collect, generate, and analyze childhood cancer data. The CCDI is building a foundational data infrastructure, aggregating and generating new data, and using this data to make new discoveries.

AI can be used to build upon this data initiative to produce meaningful solutions to pediatric, adolescent, and young adulthood cancer. This application of AI has the potential to transform the Nation's current care and research approach for pediatric cancer—as well as our healthcare and research infrastructure more broadly—through use of the rich and multimodal data, secured with appropriate individual privacy protections, to develop early and superior diagnostics, identify cures and optimize treatments, and advance medicine that will save lives.

For too long, we have watched our children and their families battle cancer and its long-term chronic effects while healthcare systems often rely on outdated technologies and can be slow to adopt certain innovations. We must prioritize investment in AI-enabled science, build world-class scientific datasets, and empower researchers and clinicians with the tools needed to translate data and AI capabilities into improved care.

Sec. 2. Harnessing American AI Innovation. The MAHA Commission, in coordination with the Secretary of Health and Human Services (Secretary), the Assistant to the President for Science and Technology (APST), and the Special Advisor for AI and Crypto, and in alignment with the implementation of America's AI Action Plan, shall work to develop innovative ways to utilize advanced technologies such as AI to unlock improved diagnoses, treatments, cures, and prevention strategies for pediatric cancer. The initial focus shall be on identifying opportunities to accelerate the progress of AI-driven solutions at the CCDI, including by making data platforms and tools available as part of the CCDI Data Ecosystem and funding research projects at National Cancer Institute-Designated Cancer Centers that prioritize:

(a) improving data infrastructure by consolidating data from multiple sources for AI-ready analysis and utilizing AI to better select participants for clinical trials;

(b) enhancing data analysis of complex biologic systems with AI tools to radically improve predictive modeling of patient response, disease progression, and treatment toxicity and to turn multi-omics data and imaging data into novel diagnostic, prognostic, and therapeutic biomarkers; and

(c) improving clinical trial design, access, and outcomes for patients by incorporating multimodal data and using AI approaches to maximize utilization of the information from clinical trials and improve accessibility, recruitment, administration, conduct, and interpretation of clinical trial results.

Sec. 3. Increasing Investment and Engagement in Pediatric Cancer Research and Care Infrastructure. The MAHA Commission, in coordination with the Secretary, the Director of the Office of Management and Budget, the Director of the National Institutes of Health, and the APST, shall prioritize expanding pediatric cancer research and advancements in care by identifying and implementing strategies for:

(a) increasing investment from existing Federal funds for the CCDI and other Federal Government initiatives that address pediatric cancer; and

(b) encouraging the private sector to make use of the most advanced technologies to unlock cures for pediatric cancer, including those based on AI, to the maximum possible extent.

Sec. 4. Improving Data Sharing and Empowering Patients. The Secretary, in consultation with the APST, shall work to ensure that AI innovation is appropriately integrated into current work on interoperability to maximize the potential for electronic health record and claims data to inform private sector and academic research and clinical trial design, while ensuring that patients and parents control their health information. In addition, the Secretary shall work to finalize interoperability standards for patient data to be used with AI that appropriately account for structured and unstructured data and enable safe and privacy-compliant exchanges of data.

Sec. 5. Definition. For the purposes of this order, “artificial intelligence” or “AI” has the meaning set forth in 15 U.S.C. 9401(3).

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Health and Human Services.

THE WHITE HOUSE,

September 30, 2025.

[FR Doc. 2025-19495

Filed 10-6-25; 11:15 am]

Billing code 4150-28-P